NATIONAL SCIENCE FOUNDATION

Notice of permit application received under the Antarctic Conservation Act of 1978

AGENCY: National Science Foundation.

ACTION: Notice of Permit Applications Received Under the Antarctic Conservation Act.

SUMMARY: Notice is hereby given that the National Science Foundation (NSF) has received a waste management permit application from Dr. Ralph Fedor for the establishment of a temporary amateur radio campsite for up to 13 people on Waterpipe Beach, Signey Island for approximately 18 days during the 2010-2011 austral summer season. The application is submitted to NSF pursuant to regulations issued under the Antarctic Conservation Act of 1978.

DATES: Interested parties are invited to submit written data, comments, or views with respect to this permit application within September 30, 2010. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer at the above address or (703) 292-8030.

SUPPLEMENTAL INFORMATION: NSF's Antarctic Waste Regulation, 45 CFR part 671, requires all U.S. citizens and entities to obtain a permit for the use or release of a designated pollutant in Antarctica, and for the release of waste in Antarctica. NSF has received a permit application under this Regulation for the operation of a temporary amateur radio camp on Signy Island, Antarctica. Zodiacs will be used to transport equipment and personnel to the camp site. Refueling of these vehicles will take place only on the ship. The camp will consist of two Weatherport shelters (12 × 25 feet): One as a lab or radio communications center; and the other for sleeping and storage. The power generator will have double containment to prevent any fuel spills. All camp waste (wrappers, empty container, disposable items), kitchen waste (garbage, debris, waste water), and human waste (solid and liquid) will be removed and returned to Ushuaia, Argentina for disposal. All shoes, clothing, equipment taken ashore will be cleaned and disinfected prior to leaving the ship to prevent introduction of non-indigenous species.

No hazardous domestic products or wastes (aerosol cans, paints, solvents, etc.) will be brought ashore. Conditions of the permit would include requirements to report on the removal of materials and any accidental releases, and management of all waste, including human waste, in accordance with Antarctic waste regulations.

Application for the permit is made by: Ralph Fedor, 2337 Granite View Road, Waite Park, MN 56387.

Location: Signy Island, South Orkney Islands.

DATES: January 1, 2010 to February 28, 2011

Nadene G. Kennedy,
Permit Officer.

[FR Doc. 2010-21562 Filed 8-30-10; 8:45 am]

BILLING CODE 7555-01-P